DEPARTMENT OF HEALTH AND HUMAN SERVICES

Health Resources and Services Administration Advisory Committee; Notice of Meeting

In accordance with section 10(a)(2) of the Federal Advisory Committee Act, (Public Law 92-463), announcement is made of the following National Advisory body scheduled to meet during the month of January 2001.

Name: Advisory Committee on Interdisciplinary, Community-Based Linkages

Date and Time: January 11, 2001; 9 a.m.-5:30 p.m.; January 12, 2001; 8 a.m.-4 p.m.

Place: The Doubletree Hotel Park Terrace on Embassy Row, 1515 Rhode Island Avenue, NW., Washington, DC 20005.

The meeting is open to the public.

The full Committee will meet beginning January 11, 2001, and adjourn on January 12, 2001, during the hours cited above. Agenda items will include, but not be limited to: Welcome; plenary discussion of Interdisciplinary Education; presentations by speakers representing: the HRSA Bureau of Health Professions; the Association of Academic Health Centers; the National Institute for Healthcare Improvement; Committee members, the Division of Interdisciplinary and Community-Based Programs (DICP), and Bureau of Health Professions (BHPr) staff supporting Committee activities; presentation of Interdisciplinary, Community-Based Case Studies; and Defining Standards for the Committee Report due to the Secretary and the Congress in November 2001.

Meeting content will be based on the Committee's charge under Section 756 of the Public Health Service Act, to include discussion of Committee reports; scheduling of the next Committee meeting, which shall include but not be limited to: general discussion of topics to be addressed during the next Committee meeting.

Public comment will be permitted before lunch and at the end of the Committee meeting on October 11, 2001. Oral presentations will be limited to 5 minutes per public speaker. Persons interested in providing an oral presentation should submit a written request, with a copy of their presentation to: Mr. Leo Wermers, Principal Staff Liaison, Division of Interdisciplinary, Community-Based Programs, Bureau of Health Professions, Health Resources and Services Administration, Room 9-105, 5600 Fishers Lane, Rockville, Maryland 20857, Telephone (301) 443-7121.

Requests should contain the name, address, telephone number, and any business or professional affiliation of the person desiring to make an oral presentation. Groups having similar interests are requested to combine their comments and present them through a single representative. The Division of Interdisciplinary and Community-Based Programs will notify each presenter by mail or telephone of their assigned presentation time.

Persons who do not file an advance request for a presentation, but wish to make an oral statement may register to do so at the Doubletree Hotel Park Terrace on Embassy Row, Washington, DC on January 11, 2001. These persons will be allocated time as the Committee meeting agenda permits.

Anyone requiring information regarding the Committee should contact Mr. Wermers, Division of Interdisciplinary and Community-Based Programs, Bureau of Health Professions, Health Resources and Services Administration, Room 9-105, 5600 Fishers Lane, Rockville, Maryland 20857, Telephone (301) 443-7121.

Proposed agenda items are subject to change as priorities dictate.

Dated: January 3, 2001.
Jane M. Harrison,
Director, Division of Policy Review and Coordination.

[FR Doc. 01-535 Filed 1-8-01; 8:45 am]

BILLING CODE 4160-15-P